SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before July 6, 2020.

ADDRESSES: Send all comments to Mary Frias, Loan Specialist, Office of Financial Assistance, Small Business Administration, 409 3rd Street SW, Washington, DC 20416.

FOR FURTHER INFORMATION CONTACT: Mary Frias, Loan Specialist, Office of Financial Assistance, mary.frias@sba.gov 202-401-8234, or Curtis B. Rich, Management Analyst, 202-205-7030, curtis.rich@sba.gov;

SUPPLEMENTARY INFORMATION: The Small Business Administration collects this information from lenders who participate in the 7(a) and Secondary Market program. The information is used to facilitate and administer secondary market transactions in accordance with 15 U.S.C. 634(f)3 and to monitor the program for compliance with 15 U.S.C. 639(h).

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information. Enhancements under review with SBA include a reorganization of the terms and conditions of the Form 1086 to improve the respondent's understanding of the rights, responsibilities and obligations contained in the Form, and to format both documents in anticipation of a transition to an electronic interface.

Summary of Information Collection

Title: Secondary Participation Guaranty Agreement.

Description of Respondents: Small Business Lending Companies.

Form Number: SBA Forms 1502, 1086.

Total Estimated Annual Responses: 4,000.

Total Estimated Annual Hour Burden: 60,000.

Curtis Rich,
Management Analyst.

[FR Doc. 2020-09448 Filed 5-1-20; 8:45 am]

BILLING CODE 8026-03-P